DEPARTMENT OF AGRICULTURE

Forest Service

Southern Arizona Resource Advisory Committee

AGENCY: Forest Service, USDA.

ACTION: Notice of meeting.

SUMMARY: The Southern Arizona Resource Advisory Committee (RAC) will meet in Tucson, Arizona. The committee is authorized under the Secure Rural Schools and Community Self-Determination Act (the Act) and operates in compliance with the Federal Advisory Committee Act (FACA). The purpose of the introductory meeting is to provide the committee with introductions to the Act, FACA, the RAC roles and responsibilities, elect a chair, and discuss the proposal process. Furthermore, to improve collaborative relationships across disciplines and counties and discuss how RAC can provide advice and recommendations to the Forest Service concerning projects and funding consistent with Title II of the Act. Secure Rural Schools and Community Self-Determination Act information can be found at the following website: https://www.fs.usda.gov/working-with-us/states/secure-rural-schools.

DATES: The meeting will be held on Wednesday, December 9, 2020 from 9:00 a.m. to 11:00 a.m. All RAC meetings are subject to cancellation. For status of meeting prior to attendance, please contact the person listed under For Further Information Contact.

ADDRESSES: The meeting will be held with vitual attendance only. For virtual meeting information, please contact the person listed under For Further Information Contact.

Written comments may be submitted as described under Supplementary Information. All comments, including names and addresses when provided, are placed in the record and are available for public inspection and copying. The public may inspect comments received at the Supervisor's Office of Coronado National Forest. Please call ahead to facilitate entry into the building.

FOR FURTHER INFORMATION CONTACT: Dana Backer, RAC Coordinator, by phone at 520-419-9567 or via email at dana.backer@usda.gov.

SUPPLEMENTARY INFORMATION: The purpose of the meeting is to:

1. Introductions of new committee;

2. Review SRS Charter October 2019, the SRS Act, FACA and other relevant documents;

3. Discuss the Project Proposal process; and

4. Elect a RAC chair person.

The meeting is open to the public. The agenda will include time for people to make oral statements of three minutes or less. Individuals wishing to make an oral statement should request in writing by Monday, November 30, 2020, to be scheduled on the agenda. Anyone who would like to bring related matters to the attention of the committee may file written statements with the committee coordinator before or after the meeting. Written comments and requests for time for oral comments must be sent to Dana Backer, RAC Coordinator, 300 West Congress Street, 6th Floor, Tucson, Arizona 85705; by email to dana.backer@usda.gov, or via facsimile to 520-388-8305.

Meeting Accommodations: If you are a person requiring reasonable accommodation, please make requests in advance for sign language interpreting, assistive listening devices, or other reasonable accommodation. For access to the facility or proceedings, please contact the person listed in the section titled. For Further Information Contact. All reasonable accommodation requests are managed on a case-by-case basis.

Cikena Reid,
USDA Committee Management Officer.

[FR Doc. 2020-25966 Filed 11-23-20; 8:45 am]

BILLING CODE 3411-15-P